DEPARTMENT OF TRANSPORTATION

Federal Railroad Administration

[Docket No. FRA-2011-0027; Notice No. 2]

Northeast Corridor Safety Committee; Meeting Postponement

AGENCY: Federal Railroad Administration (FRA), Department of Transportation (DOT).

ACTION: Notice of meeting; postponement.

SUMMARY: FRA announced the first meeting of the Northeast Corridor Safety Committee, a Federal Advisory Committee mandated by Section 212 of the Passenger Rail Investment and Improvement Act of 2008 (PRIIA) on June 6, 2011 (See 76 FR 32391). This meeting is postponed until further notice and will be rescheduled at a future date.

DATES: The meeting of the Northeast Corridor Safety Committee scheduled to commence on Tuesday, June 14, 2011, at 9 a.m., is hereby postponed and will be rescheduled at a future date.

ADDRESSES: To be rescheduled at a future date and location.

FOR FURTHER INFORMATION CONTACT: Mr. Larry Woolverton, Northeast Corridor Safety Committee Administrative Officer/Coordinator, FRA, 1200 New Jersey Avenue, SE., Mailstop 25, Washington, DC 20590, (202) 493-6212; or Mr. Mark McKeon, Special Assistant to the Associate Administrator for Railroad Safety/Chief Safety Officer, FRA, 1200 New Jersey Avenue, SE., Mailstop 25, Washington, DC 20590, (202) 493-6350.

SUPPLEMENTARY INFORMATION: The Northeast Corridor Safety Committee is mandated by a statutory provision in Section 212 of the PRIIA (codified at 49 U.S.C. 24905(f)). This Committee is chartered by the Secretary of Transportation and is an official Federal Advisory Committee established in accordance with the provisions of the Federal Advisory Committee Act, as amended, 5 U.S.C. Title 5—Appendix.

Issued in Washington, DC, on June 7, 2011.
Jo Strang,
Associate Administrator for Railroad Safety/Chief Safety Officer.

[FR Doc. 2011-14547 Filed 6-8-11; 4:15 pm]

BILLING CODE 4910-06-P